DEPARTMENT OF TRANSPORTATION

Federal Transit Administration

Competitive Funding Opportunity: Crime Prevention and Public Safety Awareness

AGENCY: Federal Transit Administration (FTA), DOT.

ACTION: Notice of Funding Opportunity (NOFO).

SUMMARY: The Federal Transit Administration (FTA) is soliciting proposals under the Department of Transportation's Technical Assistance and Workforce Development Program to select an eligible project or projects for the development and dissemination of technical assistance materials supporting public safety awareness campaigns. The technical assistance materials will address public safety issues impacting the transit industry, including but not limited to human trafficking, operator assault, and crime prevention. Technical assistance also may include recommended practices, and public and employee training. The awarded projects will be referred to as the Crime Prevention and Public Safety Awareness projects, and the available funding is $2,000,000 in Fiscal Year (FY) 2018 funds.

DATES: Applicants must submit completed proposals for funding opportunity FTA-2019-007-TSO through the GRANTS.GOV “APPLY” function by 11:59 p.m. Eastern Time on May 28, 2019. Prospective applicants should register as soon as possible on the GRANTS.GOV website to ensure they can complete the application process before the submission deadline. Application instructions are available on FTA's website at http://transit.dot.gov/howtoapply and in the “FIND” module of GRANTS.GOV. FTA will not accept mail and fax submissions.

FOR FURTHER INFORMATION CONTACT: Dakisha Spratling, FTA Office of Transit Safety and Oversight; phone: (202) 366-2530; email: FTAPublicSafety@dot.gov.

SUPPLEMENTARY INFORMATION:

Table of Contents

A. Program Description

B. Federal Award Information

C. Eligibility Information

D. Application and Submission Information

E. Application Review Information

F. Federal Award Administration Information

G. Federal Awarding Agency Contacts Information

A. Program Description

The Crime Prevention and Public Safety Awareness projects are funded through the Technical Assistance and Workforce Development Program (49 U.S.C. 5314), with the goal of developing and disseminating technical assistance materials supporting public safety awareness campaigns addressing public safety in transit systems, including crime prevention, human trafficking, and operator assault.

Human Trafficking is a crime that involves exploiting a person for labor, services, or commercial sex. Section 7102(9), of Title 22, U.S.C., defines “severe forms of trafficking in persons,” as:

Sex trafficking in which a commercial sex act is induced by force, fraud, or coercion, or in which the person induced to perform such act has not attained 18 years of age; or

The recruitment, harboring, transportation, provision, or obtaining of a person for labor or services, through the use of force, fraud, or coercion for the purpose of subjection to involuntary servitude, peonage, debt bondage, or slavery.

The coercion can be subtle or overt, physical or psychological. Exploitation of a minor for commercial sex is human trafficking, regardless of whether any form or force, fraud, or coercion was used. There is no single profile of a trafficking victim. Victims of human trafficking can be anyone—regardless of race, color, national origin, disability, religion, age, gender, sexual orientation, gender identity, socioeconomic status, education level, or citizenship status.

The U.S. Department of Transportation (DOT) combats human trafficking by working with public and private sector stakeholders to empower transportation employees and the traveling public to recognize and report possible instances of human trafficking. The Crime Prevention and Safety Awareness projects support the DOT's Transportation Leaders Against Human Trafficking initiative, which has the following focus areas: Leadership, training and education, policy development, public awareness, and information sharing and analysis.

Eligible projects will support the development, evaluation, demonstration, dissemination, and implementation of technical assistance materials promoting public safety awareness. Specific project eligibility under this competitive allocation is described in Section C.

B. Federal Award Information

The FTA makes available $2,000,000 in FY 2018 funds under the Technical Assistance and Workforce Development Program (49 U.S.C. 5314) to finance projects that support a public safety awareness campaign through the development, evaluation, demonstration, and implementation of technical guidance materials that promote practices to improve public safety.

The FTA will award funding through a cooperative agreement. Funds are available only for projects that have not incurred costs prior to the announcement of project selections. The FTA may supplement the total funds currently available with future appropriations.

C. Eligibility Information

(1) Eligible Applicants

Eligible applicants for awards are national non-profit organizations. Organizations must have crime prevention experience, the capacity to provide public transportation-related technical assistance, and the ability to deliver a national public awareness campaign. A single lead organization must be designated in the proposal. Other organizations may participate as subcontractors or subrecipients. An organization identified as the single lead organization for a proposal may be named as a subcontractor or subrecipient in another proposal. Eligible subrecipients include public agencies, private nonprofit organizations, and private providers engaged in public transportation.

Eligible applicants may submit consolidated proposals for projects. Proposals may contain projects the recipient or its subrecipients will implement.

(2) Eligible Projects

Eligible projects include technical assistance materials, development and dissemination projects supporting transit public safety awareness campaigns. The technical assistance materials will address one or more of the following topics:

Reducing or eliminating human trafficking occurring at transit systems or through the use of transit systems,

Protecting transit operators from the risk of assault,

Reducing crime on public transit vehicles and facilities, and

Improving rider and public safety.

Key focus areas will be education and training, policy development, public awareness and outreach, and information sharing and analysis.

Applicants may each submit one proposal.

D. Application and Submission Information

(1) Address To Request Application Package

Applications must be submitted through GRANTS.GOV. Applicants can find general information for submitting applications through GRANTS.GOV at www.fta.dot.gov/howtoapply, along with specific instructions for the forms and attachments required for submission. Mail and fax submissions will not be accepted.

(2) Content and Form of Application Submission

a. Proposal Submission

A complete proposal submission will consist of at least two files: (1) The SF-424 Mandatory form (downloaded from GRANTS.GOV) and (2) a narrative application document in Microsoft Word, Adobe Acrobat or compatible file format. The narrative application should be in the format outlined in section B, Application Content. Once completed, the narrative application must be placed in the attachments section of the SF-424 Mandatory form. Applicants must attach the narrative application file to their submission in GRANTS.GOV to successfully complete the proposal process. A proposal submission may contain additional supplemental materials as attachments.

b. Application Content

Proposals shall be submitted in a Microsoft Word, Adobe Acrobat or compatible file format, double-spaced using Times New Roman, 12-point font. The proposal must contain the following components and adhere to the specified maximum lengths:

1. Cover sheet (1 page): The cover sheet must include: The name of the entity submitting the proposal, the principal name, title, and contact information (e.g., address, phone, fax, and email), and the name and contact information for the key point of contact for all five activities if different from principal.

2. Abstract (not to exceed 4 pages): The abstract must include the following sections: Background, purpose, methodology, intended outcomes, and plan for evaluation.

3. Detailed budget proposal and budget narrative (not to exceed 3 pages).

4. Project narrative (not to exceed 25 pages): The project narrative must include the following information:

a. The methodology for addressing the goals and objectives.

b. Objectives, activities, deliverables, milestones, timeline and intended outcomes for achieving the goals outlined in the scope for the first year;

c. The existing and future capacity of the organization to address the issues outlined in the proposal and ability to implement goals and objectives;

d. A detailed plan for communication, technical assistance and outreach;

e. A plan to work with stakeholders and build partnerships; and,

f. Staff qualifications, including: (1) Prior experience providing technical assistance, especially related to crime prevention, (2) prior experience implementing the other tasks outlined in this solicitation, (3) staff members' knowledge of issues related to public safety in the transit industry, and (4) a one-page biographical sketch for each staff member.

5. Plan for evaluation of Crime Prevention and Public Safety Awareness project and establish performance measures (not to exceed 5 pages).

6. Supplemental materials, such as professional biographies, and letters of support, can be included in an appendices section (not to exceed 15 pages). Supplemental materials will not count against the 25-page limit for the project narrative.

(3) Unique Entity Identifier and System for Award Management (SAM)

Each applicant is required to: (1) Register in SAM before applying; (2) provide a valid unique SAM entity identifier in its application; and (3) continue to maintain an active SAM registration with current information at all times during which the applicant has an active federal award or an application or plan under consideration by FTA. The FTA may not make an award until the applicant has complied with all applicable unique entity identifier and SAM requirements. If an applicant has not fully complied with the requirements by the time FTA is ready to make an award, FTA may determine that the applicant is not qualified to receive an award and use that determination as a basis for making a Federal award to another applicant. Registration in SAM may take as little as 3-5 business days, but there can be unexpected steps or delays. For example, the applicant may need to obtain an Employer Identification Number, which could cause a delay in the SAM registration. FTA recommends allowing ample time, up to several weeks, for completion of all steps. For additional information on obtaining a unique entity identifier, please visit www.sam.gov.

(4) Submission Dates and Times

Project proposals must be submitted electronically through GRANTS.GOV and must be received by 11:59 p.m. Eastern time on May 28, 2019.

GRANTS.GOV attaches a time stamp to each application at the time of submission. Proposals submitted after the deadline will only be considered under extraordinary circumstances not within the applicant's control. Mail and fax submissions will not be accepted.

Within 48 hours after submitting an electronic application, the applicant should receive two email messages from GRANTS.GOV: (1) Confirmation of successful transmission to GRANTS.GOV, and (2) confirmation of successful validation by GRANTS.GOV. If the applicant does not receive confirmation of successful validation or receives a notice of failed validation or incomplete materials, the applicant must address the reason for the failed validation, as described in the email notice, and resubmit before the submission deadline. If making a resubmission for any reason, applicants must include all original attachments regardless of which attachments were updated and check the box on the supplemental form indicating this is a resubmission.

The FTA urges applicants to submit proposals at least 72 hours prior to the due date to allow time to receive the validation messages and to correct any problems that may have caused a rejection notification. GRANTS.GOV scheduled maintenance and outage times are announced on the GRANTS.GOV website. Deadlines will not be extended due to scheduled website maintenance.

Applicants are encouraged to begin the process of registration on the GRANTS.GOV site well in advance of the submission deadline. Registration is a multi-step process, which may take several weeks to complete before an application can be submitted. Registered applicants may still be required to take steps to update their registration before submitting an application. Registration in SAM is renewed annually and persons making submissions and persons making submissions on behalf of the Authorized Organization Representative (AOR) must be authorized in GRANTS.GOV by the AOR to make submissions.

(5) How To Register To Apply Through GRANTS.GOV.

To register and for detailed instructions, please see the “APPLICANTS” tab in GRANTS.GOV (https://www.grants.gov/web/grants/applicants.html). To be eligible to apply for this opportunity, organizations must have a Data Universal Numbering System (DUNS) Number, active System for Award Management (SAM) registration, and an established GRANTS.GOV account.

Creating a GRANTS.GOV account can be completed online in minutes, but DUNS and SAM registrations may take several weeks. Therefore, an organization's registration should be done in sufficient time to ensure it does not impact the entity's ability to meet required application submission deadlines.

Complete organization instructions can be found on GRANTS.GOV: https://www.grants.gov/web/grants/applicants/organization-registration.html.

E. Application Review Information

Proposals will be evaluated by a review team based on the proposals: (1) Ability to meet the goal of the Crime Prevention and Public Safety Awareness project; (2) qualifications of key personnel, experience and knowledge; (3) communication, technical assistance and outreach strategy; (4) research and demonstration capacity; and (5) management approach. The criteria are detailed below:

1. Ability to Meet the Goal of the Crime Prevention and Public Safety Awareness project. Proposals will be evaluated based on the planned approach and project activities identified that will assist the transit industry in making progress towards improved public transit safety awareness through the development and dissemination of technical assistance materials supporting public safety awareness campaigns.

2. Qualifications of Key Personnel, Experience and Knowledge: The proposal should demonstrate that key personnel have the appropriate skills and experience to carry out the project activities. FTA will evaluate the qualifications and experience of the key staff detailed in the proposal for their:

a. Knowledge and experience with crime prevention, to include human trafficking, operator assault, and transit rider safety;

b. Knowledge and experience with public transit safety; and

c. Knowledge and experience with public awareness campaigns.

3. Communication, Technical Assistance and Outreach Strategy. The proposal should demonstrate the ability to execute a technical assistance project with a national and local scope, as well as strategies for delivering targeted outreach to state, regional, and local stakeholders. Proposing organizations are encouraged to think innovatively about this technical assistance delivery.

The proposal should also demonstrate the ability to carry out outreach, dissemination and information management activities. These activities will include capturing and sharing useful and best practices in crime prevention and public safety. The proposal should demonstrate innovative approaches, such as the use of social media and other information technologies, to accomplish this strategy.

4. Research and Demonstration Capacity. The proposal should demonstrate the applicant's capability and capacity (either internally or through external sources) to conduct research, analysis, and demonstration projects related to crime prevention, human trafficking, operator assault, and rider safety.

5. Management Approach. The proposal must include an effective management plan to administer and manage the Crime Prevention and Public Safety Awareness project and must demonstrate that the applicant has the technical capacity to carry out the plan. FTA will evaluate the applicant's:

a. Technical capacity to administer and manage the activities proposed;

b. Total budget and staffing;

c. Evidence of understanding of the Crime Prevention and Public Safety Awareness project objective and a comprehensive technical approach to delivering the project;

d. Plan for evaluation and data collection; and,

e. A plan for coordinating with FTA staff.

F. Federal Award Administration Information

(1) Federal Award Notices

Final award decisions will be made by the Administrator of the Federal Transit Administration. In making these decisions, the Administrator will take into consideration:

a. Recommendations of the review panel;

b. Past performance of the applicant regarding programmatic and grants management compliance;

c. Whether the project is located in or supports public transportation service in a qualified opportunity zone designated pursuant to 26 U.S.C. 1400Z-1;

d. The reasonableness of the estimated cost to the Federal Government considering the available funding and anticipated results; and

e. The likelihood that the proposed project will result in the transportation outcomes expected.

FTA will notify any successful applicant and may announce any selection on its website https://www.transit.dot.gov. Following notification, a successful applicant will be required to submit its application through the FTA Transit Award Management System (TrAMS). The FTA will work with the successful applicant to develop a detailed cooperative agreement. The FTA will award and manage a cooperative agreement through TrAMS.

(2) Award Administration

a. Grant Requirements: A successful applicant will apply for a cooperative agreement through TrAMS and adhere to the customary FTA grant requirements of Section 5314, Technical Assistance and Workforce Development. There is no pre-award authority for this project. Discretionary grants and cooperative agreements greater than $500,000 will go through the Congressional notification and release process. Assistance regarding these requirements is available from FTA.

b. Standard Assurances: The applicant assures that it will comply with all applicable Federal statutes, regulations, executive orders, FTA circulars, and other Federal administrative requirements in carrying out any project supported by the FTA grant. The applicant acknowledges that it is under a continuing obligation to comply with the terms and conditions of the cooperative agreement issued for its project with FTA. The applicant understands that Federal laws, regulations, policies, and administrative practices might be modified from time to time and that modifications may affect the implementation of the project. The applicant agrees that the most recent Federal requirements will apply to the project, unless FTA issues a written determination otherwise. The applicant must submit the Certifications and Assurances before receiving a cooperative agreement if it does not have current certifications on file.

(3) Reporting

Post-award reporting requirements include submission of Federal Financial Reports and Milestone Progress Reports in TrAMS on a monthly or quarterly basis, as determined by the FTA Project Manager. Documentation is required for payment. The Federal Financial Accountability and Transparency Act (FFATA) requires data entry at the FFATA Sub Award Reporting System (http://www.FSRS.gov) for all sub-awards and sub-contracts issued for $30,000 or more, as well as addressing executive compensation for both grantee and sub-award organizations.

Additionally, FTA is required to report to Congress every year on the value of Section 5314 investments. Applicants will be required to provide details indicating the need, problem, or opportunity addressed by activities of the program. The national significance and relevance to the public transportation industry must also be clearly detailed.

(4) Legal Capacity

Applicants must certify that there are no legal issues which would impact their eligibility and authority to apply for FTA funds, or prevent their acceptance of FTA funds.

G. Federal Awarding Agency Contacts

For questions about applying, please contact Dakisha Spratling, at Federal Transit Administration, Office of Transit Safety and Oversight, phone: (202) 366-2530, or email, FTAPublicSafety@dot.gov. A TDD is available at 1-800-877-8339 (TDDFIRS). To ensure that applicants receive accurate information about eligibility or the program, applicants are encouraged to contact FTA directly with questions, rather than through intermediaries or third parties.

The FTA staff may also conduct briefings on the competitive grants selection and award process upon request.

K. Jane Williams,
Acting Administrator.

[FR Doc. 2019-06073 Filed 3-28-19; 8:45 am]

BILLING CODE 4910-57-P